ENVIRONMENTAL PROTECTION AGENCY

[ER-FRL-6611-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-COE-H36109-MO Rating EO2, Chesterfield Valley Flood Control Study, Improvement Flood Protection, City of Chesterfield, St. Louis County, MO.

Summary: EPA raised objections, noting that significant floodplain management issues exist. EPA encouraged the Corps to reevaluate alternatives to lessen impacts.

ERP No. D-COE-K36134-CA Rating 3, Murrieta Creek Flood Control and Protection, Implementation, Riverside County, CA.

Summary: EPA stated that the draft EIS failed to adequately assess potentially significant environmental impacts of the proposed project. EPA believes that the proposed project would result in significant unmitigated impacts to wetlands and other waters of the U.S., important wildlife habitat, and air quality and that alternatives exist that would reduce these impacts, provide flood protection, and restore and enhance Murrieta Creek within the proposed project area. EPA has determined that this project as proposed is not consistent with or otherwise in compliance with the Section 404(b)(1) Guidelines of the Clean Water Act. A Clean Air Act conformity determination is also needed for this project.

ERP No. D-DOE-L00008-00 Rating EC2, Programmatic—Accomplishing Expanded Civilian, Nuclear Energy Research and Development and Isotope Production Missions in the United States, Including the Role of the Fast Flux Test, ID, TN, WA.

Summary: EPA expressed concerns about: The project need; site-specific impacts from the proposed accelerator(s) or research reactor; the project's consistency with future land uses at Superfund sites and the funding of clean-up at these sites; and, the inclusion of decommissioning of the fast flux test facility in the EIS. EPA requests that information to address these concerns be included in the final EIS/ROD.

ERP No. D-MMS-G39008-00 Rating EC2, Programmatic EIS—Proposed Use of Floating Production, Storage and Offloading Systems on the Gulf of Mexico, Outer Continental Shelf, Western and Central Planning Areas, TX, LA, MS, AL and FL.

Summary: EPA expressed environmental concerns relating to air quality/general conformity and requests additional information on these issues. In addition, EPA suggests Alternative B (Alternative A with General Restrictions or Conditions) be considered as the preferred alternative.

ERP No. D-NRC-J00031-UT Rating EC2, Skull Valley Band of Goshute Indians Reservation Project, Construction and Operation of Independent Spent Fuel Storage Installation and Related Transportation Facilities, Permits and Approvals, Tooele County, UT.

Summary: EPA expressed concerns about occupational radiation exposures, about sufficiency of financial assurance to protect the environment, transportation emergency response and water quality.

ERP No. D-USN-K11034-CA Rating LO, Point Mugu Sea Range Naval Air Warfare Center Weapons Division (NAWCWPWS), Proposes To Accommodate TMD Testing and Training, Additional Training Exercises, Ventura, Los Angeles, Santa Barbara, San Diego and San Luis Obispo Counties, CA.

Summary: While EPA has no objection to the proposed action, EPA requests that the Final EIS and the Record of Decision include a formal commitment to project monitoring and mitigation.

ERP No. DS-AFS-G65062-NM Rating LO, Agua/Caballos Timber Sale, Harvesting Timber and Managing Existing Vegetation, New Information and a New Preferred Alternative, Carson National Forest, EL Rito Ranger District, Arriba County, NM.

Summary: EPA expressed lack of objections.

ERP No. DS-COE-K32010-HI Rating EC2, Modifications to (Kalaeloa) Barbers Point Harbor, Proposal to Enhance Harbor Operations and Economic Efficiency, and Improve Port Safety, Oahu, HI.

Summary: EPA expressed environmental concerns regarding water quality impacts due to project construction and operation, adverse impacts to coral populations, and mitigation for adverse impacts. Based upon information in the DSEIS it appears that wastewater from harbor operations may contribute to the documented water quality problems of the harbor and nearshore waters, and, accordingly, EPA believes it is appropriate to evaluate wastewater management improvements at the harbor as a component to this project.

ERP No. DS-COE-K36098-CA Rating EO2, Prado Dam Water Conversion Plan, Implementation, New Information Concerning New and Modified Flood Protection Features, Remaining Features of the Santa Ana River Project (SARP) and Stabilization of the Bluff Toe at Norco Bluffs, Riverside, Orange and San Bernardino Counties, CA.

Summary: EPA expressed environmental objections based upon projected and potential impacts to air quality, and aquatic resources, as well as the adequacy of mitigation for air and water impacts. EPA asked the Corps to identify additional mitigation measures to reduce air emissions associated with the Clean Water Act Section 404(b)(1) regulations. EPA raised serious concerns that the EIS presented an extremely limited range of alternatives for the three project components.

Final EISs

ERP No. F-BLM-G65073-NM Farmington Field Office Riparian and Aquatic Habitat Management, To Restore and Protect, Farmington Riparian and Aquatic Habitat Management Plan, San Juan, McKinley, Rio Arriba and Sandoval Counties, NM.

Summary: EPA expressed no objections on the Final EIS.

ERP No. F-BLM-G65074-NM Taos Field Office Riparian and Aquatic Habitat Management, To Restore and Protect, Colfax, Harding, Los Alamos, Mora, Rio Arriba, San Miquel, Santa Fe, Taos and Unison Counties, NM.

Summary: EPA expressed lack of objections on the Final EIS.

ERP No. F-COE-E01013-FL Programmatic EIS—Rock Mining—Freshwater Lakebelt Plan, Limestone Mining Permit, Section 404 Permit, Implementation, Miami-Dade County, FL.

Summary: EPA raised concerns over the cumulative impacts of this proposal, the significant uncertainties associated with the effectiveness of subsequent assessment/planning measures as well as in determining whether environmental impacts can be mitigated to acceptable levels.

ERP No. F-COE-K36118-CA Guadalupe River Watershed Planning Study, Multi-Objective Capital Improvement Project on the Guadalupe River between Highway 101 to Interstate 880 and Interstate 280 to Blossom Hill Road, Santa Clara Valley Water District, Santa Clara County, CA.

Summary: No formal comment letter was sent to the preparing agency.

ERP No. F-NPS-K61150-CA Anacapa Island Restoration Project, Implementation, Channel Islands National Park, Ventura County, CA.

Summary: EPA's comments were adequately addressed.

ERP No. F-SFW-K90030-CA San Dieguito Wetland Restoration Project, Implementation, Comprehensive Restoration Plan, COE Section 404 Permit, Cities of Del Mar and San Diego, San Diego County, CA.

Summary: No formal comment letter was sent to the preparing agency.

ERP No. F-USN-K11103-GU Surplus Navy Property Identified in the Guam Land Use Plan (GLUP '94) for Disposal and Reuse, Implementation, GU.

Summary: No formal comment letter was sent to the preparing agency.

ERP No. FA-IBR-J35005-00 Animas-La Plata Project (APL Project), Municipal and Industrial Water Supply, Reservoir Construction in Ridges Basin, Implementation and Water Acquisition, Additional Information concerning Project Alternatives Developed in 1996 through 1997, CO and NM.

Summary: EPA provided suggestions to ameliorate the adverse impact of operating the project upon the Jicarilla Apache and Navajo Tribes in New Mexico, including prioritizing construction of Indian water projects in the San Juan Basin based on currently unmet public health supply needs, considering legislative measures to allow the Colorado Ute Tribes to market their water to the tribal needs in New Mexico for the Navajo Nation and the Jicarilla-Apache Tribe, and equitably allocating water provided to San Juan River federal beneficiaries of the Animas-La Plata Project. EPA also recommended that the Record of Decision include a commitment that allocation of water to San Juan River Basin users of federal facilities in the event of a shortage for fish flows will be reduced equitably, including the project beneficiaries of the Animas-La Plata Project.

ERP No. FS-UAF-G11031-TX Programmatic EIS—Kelly Air Force Base (AFB) Disposal and Reuse, New and Updated Information, Joint Military and Civil Use of the Runway and other Airfield Facilities, Joint Use Agreement, Bexar County, San Antonio, TX.

Summary: EPA has no further comments to offer and awaits receipt of the Record of Decision.

Dated: October 24, 2000.
Ken Mittelholtz,
Environmental Protection Specialist, Office of Federal Activities.

[FR Doc. 00-27678 Filed 10-26-00; 8:45 am]

BILLING CODE 6560-50-P